ENVIRONMENTAL PROTECTION AGENCY

[FRL OP-OFA-016]

Environmental Impact Statements; Notice of Availability

Responsible Agency: Office of Federal Activities, General Information 202-564-5632 or https://www.epa.gov/nepa.

Weekly receipt of Environmental Impact Statements (EIS)

Filed May 2, 2022 10 a.m. EST Through May 9, 2022 10 a.m. EST

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20220063, Final, USFWS, WA, Thurston County Habitat Conservation Plan, Thurston County, Washington, Review Period Ends: 06/13/2022, Contact: Kevin Connally 360-753-9440.

EIS No. 20220064, Final, NMFS, MD, Final Amendment 13 to the 2006 Consolidated Atlantic Highly Migratory Species Fishery Management Plan, Review Period Ends: 06/13/2022, Contact: Tom Warren 978-281-9347.

EIS No. 20220065, Draft, NMFS, Other, Saltonstall-Kennedy Grant Program Programmatic Environmental Impact Statement, Comment Period Ends: 06/27/2022, Contact: Clifford Cosgrove 301-427-8736.

EIS No. 20220066, Final Supplement, USFWS, AZ, Proposed Revision to the Regulations for the Nonessential Experimental Population of the Mexican Wolf, Review Period Ends: 06/13/2022, Contact: Brady McGee 505-761-4748.

EIS No. 20220067, Final Supplement, USACE, WA, Howard A. Hanson Dam Additional Water Storage Project Final Integrated Validation Report and Supplemental Environmental Impact Statement, Review Period Ends: 06/13/2022, Contact: Nancy Gleason 206-764-6577.

EIS No. 20220068, Final, TVA, AL, North Alabama Utility-Scale Solar Project, Review Period Ends: 06/13/2022, Contact: Elizabeth R Smith 865-632-3053.

Dated: May 9, 2022.
Cindy S. Barger,
Director, NEPA Compliance Division, Office of Federal Activities.

[FR Doc. 2022-10366 Filed 5-12-22; 8:45 am]

BILLING CODE 6560-50-P